DEPARTMENT OF DEFENSE

Department of the Army

[Docket ID USA-2014-0047]

Privacy Act of 1974; System of Records

AGENCY: Department of the Army, DoD.

ACTION: Notice to alter a System of Records.

SUMMARY: The Department of the Army proposes to alter a system of records notice, A0195-6 USACIDC, entitled “Criminal Investigation Accreditation and Polygraph Examiner Evaluation Files” in its existing inventory of records systems subject to the Privacy Act of 1974, as amended. This system will be used to determine applicant's acceptance into or rejection from the USACIDC program; continuing eligibility, placement or standing therein; and to manage and evaluate polygraph examination performance.

DATES: Comments will be accepted on or before January 20, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/.

The proposed systems reports, as required by 5 U.S.C. 552a(r) of the Privacy Act, as amended were submitted on December 9, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 12, 2014.
Aaron Siegel,
Alternate OSD Federal Register Liaison Officer, Department of Defense.

A0195-6 USACIDC

System name:

Criminal Investigation Accreditation and Polygraph Examiner Evaluation Files (February 7, 2001, 66 FR 9298)

Changes:

* * * * *

System location:

Delete entry and replace with “Headquarters, U.S. Army Criminal Investigation Command (USACIDC), Russell Knox Building, 27130 Telegraph Road, Quantico, Virginia 22134-2253.

Information concerning polygraph examiners is located at the Director, U.S. Army Crime Records Center, U.S. Army Criminal Investigation Command, ATTN: CICR-FP, Russell Knox Building, 27130 Telegraph Road, Quantico, Virginia 22134-2253, and subsequently at the Washington National Records Center, GSA, 4205 Suitland Road, Suitland, Maryland 20746-8001.”

* * * * *

Categories of records in the system:

Delete entry and replace with “Individual's application, name, date of birth, current address, and telephone number, agent sequence number, DOD ID number, badge/credential number, statement of personal history, personal identifiers, photographs, fingerprint cards, qualifications record, biography, information pertaining to assignment capability or limitation, letters of recommendation, educational institutional documents, character investigation data, reclassification actions, reassignment orders, commander's inquiry data, reports of investigation, reasons for withdrawal from program, reason for denying application, date of acceptance into program, date appointed, date of accreditation, badge number, credential number, polygraph certificate number, agent sequence number, assignment, date assigned, marital status, and other data pertinent to the accreditation function, physical profile, date of last physical, assignment preference, transfer restrictions, job title, security clearance data, date of last background investigation, foreign language proficiency, special qualifications, service agreement, spouse's place of birth and citizenship, agent's place of birth, private licenses, hobbies, and last 10 assignments. Polygraph examiner performance and evaluation data maintained at the Crime Records Center (CRC) include individual's full name, personal history statement, certificate number, polygraph examination history, year of polygraph report, report of investigation or CRC cross reference number, type of examination, and monitor's comments.”

Authority for maintenance of the system:

Delete entry and replace with “10 U.S.C. 3013, Secretary of the Army; Army Regulation 195-6, Department of the Army Polygraph Activities.”

* * * * *

Retrievability:

Delete entry and replace with “By individual's name, agent sequence number, DoD ID number, badge/credential number.”

Safeguards:

Delete entry and replace with “All records are maintained in buildings protected by security guards or a locked wire enclosure; information is accessed only by designated individuals having official need therefore in the performance of assigned duties. DoD Components and approved users ensure that electronic records collected and used are maintained in controlled areas accessible only to authorized personnel. Physical security differs from site to site, but the automated records are maintained in controlled areas accessible only by authorized personnel. Access to computerized data is restricted by use of common access cards (CACs) and is accessible only by users with an authorized account. The system and electronic backups are maintained in controlled facilities that employ physical restrictions and safeguards such as security guards, identification badges, key cards, and locks.”

* * * * *

System manager(s) and address:

Delete entry and replace with “Commander, Headquarters, U.S. Army Criminal Investigation Command, Russell Knox Building, 27130 Telegraph Road, Quantico, Virginia 22134-2253.”

Notification procedure:

Delete entry and replace with “Individuals seeking to determine whether information about themselves is contained in this system should address written inquiries to the Director, U.S. Army Crime Records Center, U.S. Army Criminal Investigation Command, ATTN: CICR-FP, Russell Knox Building, 27130 Telegraph Road, Quantico, Virginia 22134-2253.

For verification purposes, individual should provide the full name, Social Security Number (SSN), date and place of birth, current address, telephone numbers, date of application to the program, sufficient details to locate the record, and signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).' ”

Record access procedures:

Delete entry and replace with “Individuals seeking access to information about themselves contained in this system should address written inquiries to the Director, U.S. Army Crime Records Center, U.S. Army Criminal Investigation Command, ATTN: CICR-FP, Russell Knox Building, 27130 Telegraph Road, Quantico, Virginia 22134-2253.

For verification purposes, individual should provide the full name, SSN, date and place of birth, current address, telephone numbers, date of application to the program, sufficient details to locate the record, and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).' ”

* * * * *

[FR Doc. 2014-29595 Filed 12-17-14; 8:45 am]

BILLING CODE 5001-06-P